DEPARTMENT OF HOUSING AND URBAN DEVELOPMENT

[Docket No. FR-7092-N-36]

Privacy Act of 1974; System of Records

AGENCY: Office of Multifamily Housing, HUD.

ACTION: Rescindment of a system of records notice.

SUMMARY: The Department of Housing and Urban Development (HUD) is issuing a public notice of its intent to rescind the Application Submission and Processing System (ASAP). During a routine review of the Office of Multifamily Housing (MFH) system of records notices, it was determined that this system of records is no longer necessary because the ASAP development project was terminated, and it was never implemented into production.

DATES: December 23, 2024. This proposed action will be effective immediately upon publication.

ADDRESSES: You may submit comments, identified by docket number by one of the following methods:

Federal e-Rulemaking Portal: http://www.regulations.gov. Follow the instructions provided on that site to submit comments electronically.

Fax: 202-619-8365.

Email: www.privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White, The Privacy Office, 451 Seventh Street SW, Room 10139; Washington, DC 20410-0001; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Application Submission and Processing System (ASAP) was being developed to provide an automated underwriting solution to support application processing, to track MFH insurance applications from initial endorsement through final closing, and to replace the MFH Development Application Processing System (DAP). The Deputy Assistant Secretary for Multifamily Housing Programs, Office of Housing/Federal Housing Administration, Department of Housing and Urban Development, presents the rescindment of the ASAP Privacy Act System of Records Notice (SORN), due to the termination of the system development, modernization and enhancement (DME) project. Records are no longer maintained by MFH and have run the record retention period. All tests and other data containing PII used in development have been deleted in accordance with the NARA records schedule.

SYSTEM NAME AND NUMBER:

Application Submission and Processing System (ASAP), HUD/MFH-02

HISTORY:

[Docket Number FR-5763-N-08], on September 17, 2014, at 72 FR 55824.

LaDonne White,
Chief Privacy Officer, Office of Administration.

[FR Doc. 2024-30490 Filed 12-20-24; 8:45 am]

BILLING CODE P